DEPARTMENT OF COMMERCE

International Trade Administration

[A-549-502]

Circular Welded Carbon Steel Pipes and Tubes From Thailand: Final Results of Antidumping Duty Administrative Review

AGENCY: Import Administration, International Trade Administration, Department of Commerce.

SUMMARY: On April 6, 2012, the Department of Commerce (the Department) published the preliminary results of administrative review of the antidumping duty order on circular welded carbon steel pipes and tubes from Thailand.¹ This review covers the respondents Pacific Pipe Public Company Limited (Pacific Pipe) and Saha Thai Steel Pipe (Public) Company, Ltd. (Saha Thai). Based on our analysis of the comments received, we have made changes to the preliminary results, which are discussed below. For the final dumping margins, see the “Final Results of Review” section below.

¹ See Circular Welded Carbon Steel Pipes and Tubes from Thailand: Preliminary Results of Antidumping Duty Administrative Review, 77 FR 20782 (April 6, 2012).

DATES: Effective Date: October 11, 2012.

FOR FURTHER INFORMATION CONTACT: Jacqueline Arrowsmith or Andrew Huston, AD/CVD Operations, Office 6, Import Administration, International Trade Administration, U.S. Department of Commerce, 14th Street and Constitution Avenue NW., Washington, DC 20230; telephone: (202) 482-5255 or (202) 482-4261, respectively.

SUPPLEMENTARY INFORMATION:

Background

Since the preliminary results, the following events have taken place. Wheatland Tube Company, United States Steel Corporation, Pacific Pipe and Saha Thai submitted timely case briefs on July 16, 2012. Wheatland Tube Company, United States Steel Corporation, Allied Tube and Conduit and TMK IPSCO, Pacific Pipe, and Saha Thai filed timely rebuttal briefs on July 23, 2012.

Period of Review

The period of review (POR) is March 1, 2010, through February 28, 2011.

Scope of the Order

The products covered by the antidumping order are certain circular welded carbon steel pipes and tubes from Thailand. The subject merchandise has an outside diameter of 0.375 inches or more, but not exceeding 16 inches. These products, which are commonly referred to in the industry as “standard pipe” or “structural tubing” are hereinafter designated as “pipes and tubes.” The merchandise is classifiable under the Harmonized Tariff Schedule of the United States (HTSUS) item numbers 7306.30.1000, 7306.30.5025, 7306.30.5032, 7306.30.5040, 7306.30.5055, 7306.30.5085 and 7306.30.5090. Although the HTSUS subheadings are provided for convenience and customs purposes, our written description of the scope is dispositive.

Analysis of Comments Received

The issues raised in the case and rebuttal briefs by parties in this administrative review are addressed in the Memorandum to Paul Piquado, Assistant Secretary for Import Administration, from Christian Marsh, Deputy Assistant Secretary for Antidumping and Countervailing Duty Operations, “Antidumping Duty Administrative Review of Circular Welded Carbon Steel Pipes and Tubes from Thailand: Issues and Decision Memorandum” (Decision Memorandum), dated October 3, 2012, and hereby adopted by this notice. A list of the issues addressed in the Decision Memorandum is appended to this notice. The Decision Memorandum is a public document and is on file electronically via Import Administration's Antidumping and Countervailing Duty Centralized Electronic Service System (IA ACCESS). IA ACCESS is available to registered users at http://iaaccess.trade.gov and in the Central Records Unit (CRU), room 7046 of the main Department of Commerce building. In addition, a complete version of the Decision Memorandum can be accessed directly on the internet at http://www.trade.gov/ia/. The signed Decision Memorandum and the electronic versions of the Decision Memorandum are identical in content.

Changes Since the Preliminary Results

Based on our analysis of the comments received, we have made adjustments to our margin calculations for Pacific Pipe and Saha Thai. For Pacific Pipe, with regard to the cost of production, we subtracted the cost of galvanizing in the instances where our methodology resulted in the selection of a galvanized product as the substitute for a non-galvanized product and added galvanizing where our methodology selected non-galvanized products as a substitute for galvanized products. See Memorandum to Neal Halper, “Cost of Production and Constructed Value Calculation Adjustments for the Final Results—Pacific Pipe Public Company Limited,” dated October 3, 2012. For Pacific Pipe, we also revised coding in our margin program to correct an error in the Department's comparison market program related to determining cost for products sold, but not produced, during the POR. See Decision Memorandum at Comment 13.

For Saha Thai, we made the following adjustments for these final results. First, after reviewing the comments and examining all of the documentation on the record with respect to warehousing, we removed warehousing expenses and revenue from the calculation for these final results. See Decision Memorandum at Comment 4. Second, we corrected a clerical error in Saha Thai's U.S. margin calculation program which affects how we calculate the freight revenue cap. See Decision Memorandum at Comment 10. We have also made a number of corrections and adjustments to Saha Thai's cost response which are discussed in the Decision Memorandum at Comments 6, 7, 8 and 9, and in the Memorandum to Neal Halper, “Cost of Production and Constructed Value Calculation Adjustments for the Final Results—Saha Thai Steel Pipe (Public) Company, Ltd.,” dated October 3, 2012.

Final Results of Review

As a result of our review, we determine that the following weighted-average margins exist for the period of March 1, 2010, through February 28, 2011:

Manufacturer/exporter | Weighted-average margin
Saha Thai Steel Pipe (Public) Company, Ltd | 0.92
Pacific Pipe Public Company Limited | 8.23

Assessment Rates

The Department shall determine, and U.S. Customs and Border Protection (CBP) shall assess, antidumping duties on all appropriate entries of subject merchandise in accordance with the final results of this review. For assessment purposes, where the respondent reported the entered value for its sales, we calculated importer-specific (or customer-specific) ad valorem assessment rates based on the ratio of the total amount of the dumping duties calculated for the examined sales to the total entered value of those same sales. See 19 CFR 351.212(b)(1). However, where the respondent did not report the entered value for its sales, we have calculated importer-specific (or customer-specific) per-unit assessment rates by aggregating the total amount of antidumping duties calculated for the examined sales and dividing this amount by the total quantity of those sales. We will instruct CBP to assess antidumping duties on all appropriate entries covered by this review if any importer-specific assessment rate calculated in the final results of this review is above de minimis (i.e., at or above 0.50 percent). Pursuant to 19 CFR 351.106(c)(2), we will instruct CBP to liquidate, without regard to antidumping duties, any entries for which the assessment rate is de minimis. The Department intends to issue appropriate assessment instructions directly to CBP 15 days after the date of publication of these final results of review.

The Department clarified its “automatic assessment” regulation on May 6, 2003. This clarification applies to entries of subject merchandise during the POR produced by the companies included in these final results of review for which the reviewed company did not know their merchandise was destined for the United States. In such instances, we will instruct CBP to liquidate unreviewed entries at the all others rate from the investigation if there is no rate for the intermediate company involved in the transaction. For a full discussion of this clarification, see Antidumping and Countervailing Duty Proceedings: Assessment of Antidumping Duties, 68 FR 23954 (May 6, 2003).

Cash Deposit Requirements

The following deposit requirements will be effective upon publication of the final results of this administrative review for all shipments of subject merchandise entered, or withdrawn from warehouse, for consumption on or after the publication date of these final results, as provided by section 751(a)(2)(C) of the Tariff Act of 1930, as amended (the Act): (1) For the company covered by this review, the cash deposit rate will be the rate listed above in the section “Final Results of Review”; (2) for merchandise exported by producers or exporters not covered in this review but covered in a previous segment of this proceeding, the cash deposit rate will continue to be the company-specific rate published in the most recent final results in which that producer or exporter participated; (3) if the exporter is not a firm covered in this review or in any previous segment of this proceeding, but the producer is, the cash deposit rate will be that established for the producer of the merchandise in these final results of review or in the most recent final results in which that producer participated; and, (4) if neither the exporter nor the producer is a firm covered in this review or in any previous segment of this proceeding, the cash deposit rate will be 15.67 percent, the all-others rate established in the less than fair value investigation.² These deposit requirements shall remain in effect until further notice.

² See Antidumping Duty Order: Circular Welded Carbon Steel Pipes and Tubes From Thailand, 51 FR 8341 (January 27, 1986).

Notification Regarding Administrative Protective Orders

This notice is the only reminder to parties subject to the administrative protective order (APO) of their responsibility concerning the return or destruction of proprietary information disclosed under the APO in accordance with 19 CFR 351.305(a)(3). Timely written notification of the return or destruction of APO materials or conversion to judicial protective order is hereby requested. Failure to comply with the regulations and the terms of an APO is a sanctionable violation.

Notification to Importers

This notice also serves as a final reminder to importers of their responsibility under 19 CFR 351.402(f) to file a certificate regarding the reimbursement of antidumping duties prior to liquidation of the relevant entries during this review period. Failure to comply with this requirement could result in the Department's presumption that reimbursement of antidumping duties occurred, and in the subsequent assessment of double antidumping duties.

We are issuing and publishing these final results and this notice in accordance with sections 751(a)(1) and 777(i)(1) of the Act.

Dated: October 3, 2012.
Paul Piquado,
Assistant Secretary for Import Administration.

Appendix

Issues in the Decision Memorandum

Comment 1: U.S. Date of Sale for Saha Thai

Comment 2: Adjustment for Duty Drawback Exemption for Saha Thai

Comment 3: Freight Revenue Cap for Saha Thai

Comment 4: Warehousing Expense for Saha Thai

Comment 5: Actual-to-Theoretical Conversion Factor for Saha Thai's Cost of Production

Comment 6: Production Quantities for Saha Thai

Comment 7: Treatment of Saha Thai's Non-Prime Products in Calculating the Cost of Production

Comment 8: Cost Reconciliation for Saha Thai

Comment 9: Treatment of Painting Services from Saha Thai's Affiliated Parties in the Cost of Production

Comment 10: Correcting an Error in the Calculation of the Freight Revenue Cap for Saha Thai

Comment 11: Duty Drawback Adjustment for Pacific Pipe

Comment 12: Pacific Pipe's Proposed Substitute Cost Methodology for Products Sold During the POR but Not Produced During the POR

Comment 13: Correcting the Programming Error in Pacific Pipe's Comparison Market Program

[FR Doc. 2012-25040 Filed 10-10-12; 8:45 am]

BILLING CODE 3510-DS-P